DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On August 3, 2018, OFAC determined that the property and interests in property subject to U.S. jurisdiction of the following persons are blocked pursuant to the relevant sanctions authorities listed below.

Individual

1. RI, Jong Won (a.k.a. RI, Cho'ng-Wo'n; a.k.a. RI, Jung Won), Moscow, Russia; DOB 22 Apr 1971; Passport PS654320421 expires 11 Mar 2019 (individual) [DPRK2].

Designated pursuant to Section 1(a)(ii) of Executive Order 13687 of January 2, 2015, “Imposing Additional Sanctions With Respect to North Korea” for being an official of the Government of North Korea.

Entities

3. KOREA UNGUM CORPORATION (a.k.a. KOREA UNGUM COMPANY), Pyongyang, Korea, North [DPRK3].

Designated pursuant to Section 2(a)(vii) of Executive Order 13722 of March 15, 2016, “Blocking Property of the Government of North Korea and the Workers' Party of Korea, and Prohibiting Certain Transactions With Respect to North Korea” (E.O. 13722) for having materially assisted, sponsored, or provided financial, material, or technological support for, or goods or services to or in support of, FOREIGN TRADE BANK, an entity whose property and interest in property are blocked pursuant to E.O. 13722.

Blocked under Section 4(b)(ii) of Executive Order 13810 of September 20, 2017 “Imposing Additional Sanctions With Respect to North Korea” (E.O. 13810) pursuant to Section 4(a)(i) of E.O. 13810 for knowingly conducting or facilitating a significant transaction on behalf of HAN JANG SU, a person whose property and interests in property are blocked pursuant to E.O. 13382 in connection with North Korea-related activities.

Dated: August 3, 2018.
Andrea M. Gacki
Acting Director, Office of Foreign Assets Control.

[FR Doc. 2018-16960 Filed 8-7-18; 8:45 am]

BILLING CODE 4810-AL-P